FEDERAL DEPOSIT INSURANCE CORPORATION

Consumer Privacy in the Financial Services Industry

AGENCY: Federal Deposit Insurance Corporation (FDIC or Corporation).

ACTION: Notice of public forum.

SUMMARY: The FDIC is hosting an interagency public forum on Consumer Privacy in the Financial Services Industry. This notice sets forth the details concerning this public forum.

DATES: Thursday, March 23, 2000.

ADDRESSES: Federal Deposit Insurance Corporation, L. William Seidman Center, 3501 North Fairfax Drive, Arlington, Virginia.

FOR FURTHER INFORMATION CONTACT: David E. Wright, Community Affairs Officer, Division of Compliance and Consumer Affairs, (202) 898-3960, Federal Deposit Insurance Corporation, 550 17th Street, NW, Washington, DC 20429.

SUPPLEMENTARY INFORMATION: The FDIC will host an interagency public forum on Consumer Privacy in the Financial Services Industry on March 23, 2000 from 8:30 a.m. to 1:00 p.m. The meeting will be held at the Federal Deposit Insurance Corporation, L. William Seidman Center, 3501 North Fairfax Drive, Arlington, Virginia. The purpose of this meeting is to explore different perspectives in three primary areas: Privacy of Consumer Information, the Regulators' Perspective on Consumer Privacy, and the Future of Privacy Law. These topics will be presented in moderated panel discussions. Members of the audience will have the opportunity to pose specific questions to the panel members.

The participants will include financial services industry leaders, consumer privacy experts, financial institution regulators, and government leaders. Donna Tanoue, Chairman of the FDIC, will host the meeting.

As required by Title V of the Gramm-Leach-Bliley Act, the FDIC, together with the Office of the Comptroller of the Currency, the Office of Thrift Supervision, and the Board of Governors of the Federal Reserve System, recently issued a notice of Proposed Rulemaking entitled “Privacy of Consumer Financial Information.” 65 FR 8769 (February 22, 2000). The FDIC will be accepting comments on this proposal until March 31, 2000. Any discussion of this proposed rule at the public forum will be transcribed and become part of the public record for the FDIC's consideration in promulgating the final rule. Individuals may submit written comments concerning the proposed rule to the FDIC as further detailed in the proposed rule or through the FDIC's “Electronic Public Comment” Internet site at http://www.fdic.gov. In addition, individuals attending the public meeting may bring their comments with them, and FDIC personnel will accept the comments for inclusion in the public record at that time.

The meeting is free and open to the public. However, space is limited to the first 300 registrants. We ask that you reserve a space in advance by calling David E. Wright, at (202) 898-3960 by March 20, 2000.

Further information concerning this event will be made available on the FDIC's web site (www.fdic.gov) and through other media.

Dated at Washington, DC, this 24th day of February, 2000.
Federal Deposit Insurance Corporation.
Robert E. Feldman,
Executive Secretary.

[FR Doc. 00-4841 Filed 2-29-00; 8:45 am]

BILLING CODE 6714-01-M